ENVIRONMENTAL PROTECTION AGENCY

[EPA-HQ-OAR-2007-0482; FRL 9911-11-OEI]

Information Collection Request Submitted to OMB for Review and Approval; Comment Request; SmartWay Transport Partnership (Renewal)

AGENCY: Environmental Protection Agency (EPA).

ACTION: Notice.

SUMMARY: The Environmental Protection Agency has submitted an information collection request (ICR), SmartWay Transport Partnership (Renewal) (EPA ICR No. 2265.02, OMB Control No. 2060-0663), to the Office of Management and Budget (OMB) for review and approval in accordance with the Paperwork Reduction Act (PRA) (44 U.S.C. 3501 et seq.). This is a proposed extension of the ICR, which is currently approved through May 31, 2014. Public comments were previously requested via the Federal Register (79 FR 7181) on February 6, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before June 26, 2014.

ADDRESSES: Submit your comments, referencing Docket ID No. EPA-HQ-OAR-2007-0482 to (1) EPA online using www.regulations.gov (our preferred method) or by mail to EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patty Klavon, U.S. Environmental Protection Agency, 2000 Traverwood Drive, Ann Arbor, MI 48105; telephone number: 734-214-4476; Fax: 734-214-4052; email address: klavon.patty@epa.gov.

SUPPLEMENTARY INFORMATION: Supporting documents, which explain in detail the information that the EPA will be collecting, are available in the public docket for this ICR. The docket can be viewed online at www.regulations.gov or in person at the EPA Docket Center, WJC West Building, Room 3334, 1301 Constitution Ave. NW., Washington, DC 20004. The telephone number for the Docket Center is 202-566-1744. For additional information about EPA's public docket, visit http://www.epa.gov/dockets.

Abstract: The EPA's Office of Air and Radiation (OAR) developed the SmartWay Transport Partnership (“SmartWay”) under directives outlined in Subtitle D of the Energy Policy Act of 2005, which calls on EPA to assess the energy and air quality impacts of activities within the freight industry. These activities include long-duration truck idling, the development and promotion of strategies for reducing idling, fuel consumption, and negative air quality effects. SmartWay's objectives also are consistent with the Federal Technology Transfer Act and other laws that support collaborative partnerships between government and industry.

SmartWay is open to organizations that own, operate, or contract with fleet operations, including truck and multi-modal carriers, logistics companies, and shippers. Organizations that do not operate fleets, but that are working to strengthen the freight industry, such as industry trade associations, state and local transportation agencies and environmental groups, also may join as SmartWay Affiliates. All organizations that join SmartWay are asked to provide EPA with information as part of their SmartWay registration to annually benchmark their transportation-related operations and improve the environmental performance of their freight activities.

A company joins SmartWay when it completes and submits a SmartWay Excel-based Partnership Tool (“reporting tool”) to EPA. The data outputs from the submitted tool are used by Partners and SmartWay in several ways. The data provides confirmation that SmartWay Partners are meeting established objectives as in their Partnership Agreement. The reporting tool outputs enable EPA to assist SmartWay Partners in adjusting their commitments, as appropriate, and to update them with environmental performance and technology information that empower them to improve their efficiency. This information also improves EPA's knowledge and understanding of the environmental and energy impacts associated with goods movement, and the effectiveness of both proven and emerging strategies to lessen those impacts.

In addition to requesting annual transportation-related data, EPA may ask its SmartWay Partners for other kinds of information, which could include opinions and test data on the effectiveness of new and emerging technology applications, sales volumes associated with SmartWay-recommended vehicle equipment and technologies, the reach and value of partnering with EPA through the SmartWay Partnership, and awareness of the SmartWay brand. In some instances, EPA might query other freight industry representatives (not just SmartWay Partners), including trade and professional associations, nonprofit environmental groups, energy, and community organizations, and universities, and a small sampling of the general public.

Form Numbers: None.

Respondents/Affected entities: Private and public organizations that join the SmartWay Transport Partnership; freight industry representatives who engage in activities related to the SmartWay Partnership; and representative samplings of consumers in the general public.

Respondent's obligation to respond: Voluntary.

Estimated number of Program respondents: 3,961 (total).

Frequency of response: Annually, occasionally.

Total estimated burden: 11,504 hours (per year). Burden is defined at 5 CFR 1320.03(b).

Total Estimated Cost: $628,477 (per year), which includes $1,651 in annualized capital or operation & maintenance costs.

Changes in estimates: There is an increase of 3,203 hours in the total estimated respondent burden compared with the ICR currently approved by OMB. This increase reflects the following adjustments and program changes: (1) adjustments associated with increased interest in SmartWay, and thus, an increase in new annual respondents and applications for the SmartWay Excellence Award, as well as robust Program retention practices, leading to increased number of Respondent partners reporting annually; (2) increased burden associated with the SmartWay Tractor & Trailer program; and (3) reduced burden due to EPA's streamlined Partnership Annual Agreement process.

Dated: May 16, 2014.
Erin Collard,
Acting Director, Collection Strategies Division.

[FR Doc. 2014-12174 Filed 5-23-14; 8:45 am]

BILLING CODE 6560-50-P